DEPARTMENT OF LABOR

Employment and Training Administration

[TA-W-39,450]

Northwestern Steel and Wire Company Sterling, Illinois; Notice of Revised Determination on Reconsideration

On September 26, 2001, the Department issued an Affirmative Determination Regarding Application on Reconsideration applicable to workers and former workers of the subject firm. The notice was published in the Federal Register on November 9, 2001 (66 FR 56713).

The Department initially denied TAA to workers of Northwestern Steel and Wire Company, Sterling, Illinois, producing structural steel and steel rod because the “contributes importantly” group eligibility requirement of section 222(3) of the Trade Act of 1974, as amended, was not met.

On reconsideration, the Department conducted further survey analysis of major customers of Northwestern Steel and Wire Company, Sterling, Illinois. The survey revealed that various customers increased their reliance on imported structural steel and wire rod during the relevant period.

All workers at Northwestern Steel were previously certified eligible to apply for TAA, TA-W-35, 174, which expired December 1, 2000.

Conclusion

After careful review of the additional facts obtained on reconsideration, I conclude that increased imports of articles like or directly competitive with structural steel and wire rod, contributed importantly to the declines in sales or production and to the total or partial separation of workers of Northwestern Steel and Wire Company, Sterling, Illinois. In accordance with the provisions of the Act, I make the following certification:

All workers of Northwestern Steel and Wire Company, Sterling, Illinois, who became totally or partially separated from employment on or after December 2, 2000, through two years from date of certification are eligible to apply for adjustment assistance under Section 223 of the Trade Act of 1974.

Signed in Washington, DC this 26th day of November 2001.
Edward A. Tomchick,
Director, Division of Trade Adjustment Assistance.

[FR Doc. 01-30068 Filed 12-4-01; 8:45 am]

BILLING CODE 4510-30-M